DEPARTMENT OF ENERGY

Federal Energy Regulatory Commission

[Docket No. RP01-562-001]

ANR Pipeline Company; Notice of Proposed Changes in FERC Gas Tariff

September 25, 2001.

Take notice that on September 19, 2001, ANR Pipeline Company (ANR) tendered for filing as part of its FERC Gas Tariff, Second Revised Volume No. 1, the following tariff sheets proposed to become effective September 1, 2001:

Substitute Forty-eighth Revised Sheet No. 8

Substitute Forty-eighth Revised Sheet No. 9

On August 31, 2001 ANR Pipeline Company (ANR) filed in Docket No. RP01-562 revised tariff sheets to implement recovery of capacity and supply costs (Dakota Costs) associated with ANR's obligations to Dakota Gasification Company (Dakota), and which have not been recovered through the bidding procedures established in GT&C, Section 28.1(c)(4), of ANR's Tariff. ANR states that the above-referenced tariff sheets are being filed to correct a clerical error made in posting the ITS commodity rate reflected on Forty-eighth Revised Sheet No. 9 and the FTS-2 overrun rate reflected on Forty-eighth Revised Sheet No. 8, for five of the rate routes presented on each matrix.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket# and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24311 Filed 9-27-01; 8:45 am]

BILLING CODE 6717-01-P